ENVIRONMENTAL PROTECTION AGENCY

[FRL-6560-2]

Carolina Creosoting Corporation Site, Leland, Brunswick County, North Carolina; Notice of Proposed Settlement

AGENCY: Environmental Protection Agency.

ACTION: Notice of Proposed Settlement.

SUMMARY: Pursuant to 122(h)(1) of the Comprehensive Environmental Response, Compensation and Liability Act (CERCLA), the U.S. Environmental Protection Agency (EPA) proposed to settle its claim for past response cost incurred at the Carolina Creosoting Corporation Site (Site) located in Leland, Brunswick County, North Carolina with Mr. Edward Theobold. EPA will consider public comments on the proposed settlement for thirty (30) days following the date of publication of this notice. EPA may withdraw or modify the proposed settlement should such comments disclose facts or considerations which indicate the proposed settlement is inappropriate, improper or inadequate. Copies of the proposed settlement are available from: Paula V. Batchelor, U.S. EPA Region 4, Waste Management Division, 61 Forsyth Street, SW, Atlanta, Georgia 30303, 404/562-8887.

Written Comments should be sent to Ms. Batchelor at the above address and should reference the Carolina Creosoting Corporation Site.

Dated: February 28, 2000.
Franklin E. Hill,
Chief, CERCLA Programs Services Branch, Waste Management Division.

[FR Doc. 00-6096 Filed 3-10-00; 8:45 am]

BILLING CODE 6570-50-M